DEPARTMENT OF THE INTERIOR

Bureau of Land Management

[NV-056-5853-EU]

Notice of Realty Action: Competitive Sale of Public Lands in Clark County, NV; Termination of Recreation and Public Purposes Classification and Segregation; Withdrawal of the Formerly Classified Lands by the Southern Nevada Public Land Management Act

AGENCY: Bureau of Land Management, Department of the Interior.

ACTION: Notice of realty action.

SUMMARY: The Bureau of Land Management (BLM) proposes to offer for sale, by public auction, 81 parcels of Federal public land aggregating approximately 2,577.60 acres, more or less, in the Las Vegas Valley, Nevada. The sale will be under the authority of the Southern Nevada Public Land Management Act of 1998, 112 Stat. 2343, as amended by Title IV of the Clark County Conservation of Public Land and Natural Resources Act of 2002, 116 Stat. 1994, (SNPLMA). The SNPLMA sale will be subject to the applicable provisions of Sections 203 and 209 of the Federal Land Policy and Management Act of 1976 (FLPMA), 43 U.S.C. 1713 and 1719, and BLM land sale and mineral conveyance regulations at 43 CFR parts 2710 and 2720. Maps, the approved appraisal reports, the draft environmental assessment (EA) and other supporting documentation are available for review at the BLM, Las Vegas Field Office (LVFO), Las Vegas, Nevada. Information is also available online at http://www.nv.blm.gov.

DATES: Comments regarding: (1) The proposed SNPLMA sale of the 2,577.60 acres in the Las Vegas Valley; and (2) the draft environmental assessment (EA), must be received by BLM on or before October 27, 2006.

Sealed bids must be received not later than 4:30 p.m. PST, March 2, 2007, at the address of the Las Vegas Field Office listed below. The sale by public auction will begin at 10 a.m., PST, March 7, 2007.

ADDRESSES: Written comments regarding the proposed sale may be submitted to BLM at the following address: Field Manager, Las Vegas Field Office, Bureau of Land Management, 4701 N. Torrey Pines Drive, Las Vegas, Nevada 89130.

Comments received by e-mail, facsimile or telephone will not be considered as comments properly filed.

The address for oral bidding registration, and the location of the public auction is: Cashman Center, 850 Las Vegas Boulevard North, Las Vegas, NV 89101.

The public auction will take place inside the Cashman Theater located in the southwest corner of the Cashman Center with entrance to the Theater between Parking Lots “B” and “C”. Registration will take place in the Theater Lobby. Cashman Center charges a $3 per vehicle parking fee. Parking Passes will be provided to those individuals who pre-register and those who pick-up a Sale Packet at the LVFO prior to the day of the sale. Passes will accompany the sale packet that is sent to everyone on the sale mailing list. Give the Pass to the attendant when you enter the parking area.

Directions to the Cashman Center from Boulder City, Henderson, or the Southeast Area of Las Vegas: Take U.S. 95 North. Exit on Las Vegas Blvd. North. Turn right on Washington Ave. Turn right on Washington to Cashman Center (850 Las Vegas Blvd. North).

Directions to the Cashman Center from Reno or the Northwest Area of Las Vegas: Take U.S. 95 South. Exit on Las Vegas Blvd. North (Las Vegas Blvd./Cashman Center). Turn left to Cashman Center (850 Las Vegas Blvd. North).

FOR FURTHER INFORMATION CONTACT: You may contact the Las Vegas Field Office at (702) 515-5000 and ask to have your call directed to a member of the Sales Team.

SUPPLEMENTARY INFORMATION: This public sale is in conformance with the Las Vegas Resource Management Plan, approved on October 5, 1998. BLM has determined that the proposed action conforms with land use plan decision LD-1 under the authority of FLPMA.

The public lands will be offered for sale competitively on March 7, 2007, at an oral auction for not less than the appraised fair market value (FMV) for each parcel. The parcels described below will be auctioned under the terms and conditions of this Notice of Realty Action (NORA).

Mount Diablo Meridian, Nevada

T. 22 S., R. 60 E.

Section 15, NE¼NW¼NE¼SW¼, SW¼NW¼NE¼SW¼, SE¼NW¼NE¼SW¼, SW¼NE¼NW¼SW¼, SW¼NW¼NW¼SW¼, NE¼SW¼NW¼SW¼, NW¼SW¼NW¼SW¼, SE¼SW¼NW¼SW¼, NW¼SW¼SE¼NE¼, SW¼SW¼SE¼NE¼, NE¼SW¼SW¼NE¼, NW¼SW¼SW¼NE¼, SW¼SW¼SW¼NE¼, SE¼SW¼SW¼NE¼.

T. 22 S., R. 60 E.

Section 16, NW¼NE¼NE¼SE¼, NE¼NW¼NE¼SE¼, NW¼NW¼NE¼SE¼, SW¼NW¼NE¼SE¼, SE¼NW¼NE¼SE¼, NE¼NE¼NW¼SE¼, SE¼NE¼NE¼SE¼, NE¼SE¼NE¼SE¼, NW¼SE¼NE¼SE¼, SE¼SE¼NE¼SE¼, SE¼SW¼NE¼SE¼, SW¼SW¼NE¼SE¼, SE¼SE¼NW¼SE¼, SW¼SE¼NW¼SE¼, SW¼SW¼NW¼SE¼, NE¼NE¼SE¼SE¼, SE¼NE¼SE¼SE¼, SW¼NE¼SE¼SE¼, E½ NE¼NW¼SE¼SE¼, E½ NW¼NW¼SE¼SE¼, SE¼NW¼SE¼SE¼, NE¼SE¼SE¼SE¼, NW¼SE¼SE¼SE¼, SW¼SE¼SE¼SE¼, SE¼SE¼SE¼SE¼, NE¼SW¼SE¼SE¼, NW¼SW¼SE¼SE¼, SW¼SW¼SE¼SE¼, SE¼SW¼SE¼SE¼, N½ NE¼SE¼SW¼SE¼, NE¼NE¼SW¼SE¼, E½ NW¼NE¼SW¼SE¼, SE¼NE¼SW¼SE¼, NE¼NW¼SW¼SE¼, E½ NW¼NE¼NE¼SW¼, NW¼SE¼NE¼SW¼, NE¼SE¼SE¼SW¼, SW¼SE¼SE¼SW¼, SE¼SE¼SE¼SW¼.

Section 28, N½ SE¼SW¼NE¼, NW¼NE¼SE¼NE¼.

T. 22 S., R. 60 E.

Section 17, W½SW¼SE¼SW¼, SW¼SE¼SW¼SW¼.

T. 22 S., R. 60 E.

Section 24, S½SW¼NW¼SE¼NE¼, NE¼NE¼NE¼SE¼, S½ NE¼NE¼SE¼, N ½ SE¼NE¼SE¼.

T. 22 S., R. 60 E.

Section 25, E½NW¼NE¼SW¼.

T. 22 S., R. 60 E.

Section 26, NW¼NE¼NE¼NW¼, NE¼NW¼NE¼NW¼, W½SE¼SW¼SE¼.

T. 22 S., R. 60 E.

Section 27, SE¼SE¼NW¼NW¼, SW¼SE¼NW¼NW¼, SE¼SW¼NW¼NW¼, NE¼NE¼SW¼NW¼.

T. 22 S., R. 61 E.

Section 14, W½NW¼NE¼NW¼SW¼, SW¼NE¼NW¼SW¼, SE¼NW¼NW¼SW¼, E½SW¼NW¼NW¼SW¼, NW¼SW¼NW¼SW¼, E½SW¼SW¼NW¼SW¼, E½NE¼SW¼NW¼SW¼, E½NW¼SE¼NW¼SW¼, W½NE¼SE¼NW¼SW¼.

T. 22 S., R. 61 E.

Section 20, SW¼SW¼.

T. 22 S., R. 61 E.

Section 29, W½NW¼NE¼SW¼, W½SW¼NE¼SW¼, SE¼NE¼NW¼SW¼, W½NE¼NW¼SW¼, NE¼NW¼NW¼SW¼, NW¼SE¼NW¼SW¼, SW¼NW¼SW¼, W½SW¼SE¼SW¼.

T. 22 S., R. 61 E.

Section 30, NE¼NW¼NW¼SE¼, SW¼NE¼NW¼SE¼, NW¼NW¼NE¼SE¼, SW¼NW¼NE¼SE¼, NW¼SW¼NE¼SE¼, NE¼SE¼NW¼SE¼.

T. 23 S., R. 61 E.

Section 10, S½SW¼SW¼NW¼, SE¼SW¼NW¼, SW¼SE¼NW¼, S½SW¼NE¼SW¼, SE¼NE¼SW¼, S½NE¼SE¼SW¼, N½SW¼SE¼SW¼, S½SE¼SE¼SW¼, S½NE¼NW¼SE¼, S½NW¼NW¼SE¼, NW¼SW¼SE¼, S½NE¼SW¼SE¼, N½SW¼SW¼SE¼.

T. 23 S., R. 61 E.

Section 09, NW¼SW¼SE¼, S½NE¼SW¼SE¼, S½SW¼SW¼SE¼, SE¼SW¼SE¼, S½SW¼SE¼SE¼, N½SE¼SE¼SE¼.

T. 23 S., R. 61 E.

Section 15, NW¼NW¼NW¼, S½NW¼NW¼, E½NW¼NW¼NE¼NW¼, E½SW¼NW¼NE¼NW¼, E½NW¼NE¼NW¼, NE¼NE¼NW¼, S½NW¼, S½NE¼NW¼, SW¼NW¼SW¼NE¼, SW¼SW¼NE¼, SW¼SE¼SW¼NE¼, N½SW¼, NW¼SW¼SW¼, N½NE¼SW¼SW¼, SW¼NE¼SW¼SW¼, W½SE¼NE¼SW¼SW¼, N½SW¼SW¼SW¼, N½SW¼SW¼SW¼SW¼, N½NE¼NW¼SE¼SW¼, N½NW¼NW¼SE¼SW¼, NE¼SE¼SW¼, E½NW¼SE¼SE¼SW¼, E½SE¼SE¼SW¼, NW¼NW¼SE¼, NW¼NE¼NW¼SE¼.

T. 23 S., R. 61 E.

Section 16, S½NE¼NW¼NW¼, S½NW¼NW¼NW¼, S½NW¼NW¼, NE¼NE¼NW¼, S½NE¼NW¼, NW¼SW¼NW¼, S½NE¼SW¼NW¼, S½SW¼NW¼, N½NW¼SE¼NW¼, N½NW¼NW¼NE¼, NE¼NW¼NE¼, S½SW¼NW¼NE¼, N½SE¼NW¼NE¼, S½SE¼NE¼NE¼, S½NW¼SW¼NE¼, N½NE¼SW¼NE¼, SW¼SW¼NE¼, S½SE¼SW¼NE¼, SE¼NE¼, N½NW¼SW¼, SW¼NW¼SW¼, N½SE¼NW¼SW¼, W½NW¼NE¼SW¼, SW¼NE¼SW¼, SW¼SW¼, NW¼SE¼SW¼, S½SE¼SW¼, S½NW¼NW¼SE¼, NE¼NW¼SE¼, S½NW¼SE¼, S½NE¼NE¼SE¼, SW¼NE¼SE¼, S½SE¼NE¼SE¼, N½NW¼SW¼SE¼, NE¼SW¼SE¼, SW¼SW¼SE¼, N½SE¼SW¼SE¼, SE¼SE¼.

T. 23 S., R. 61 E.

Section 20, N½NW¼NE¼NE¼, NE¼NE¼NE¼, N½SW¼NE¼NE¼, SE¼NE¼NE¼, S½NW¼SE¼NE¼, N½SE¼SE¼NE¼, and the NE¼SE¼, SE¼SE¼ , excepting therefrom approximate 30 acres described in BLM ROW grant N-78339.

T. 23 S., R. 61 E.

Section 21, W½, N½NW¼NE¼, W½SW¼NW¼NE¼, N½NE¼SW¼NW¼NE¼, N½NW¼SE¼NW¼NE¼, N½NW¼NE¼NE¼, N½SW¼NW¼NE¼NE¼, N½NW¼NE¼NE¼NE¼, W½NW¼SW¼NE¼, W½NE¼NW¼SW¼NE¼, SE¼NW¼SW¼NE¼, S½SW¼NE¼, S½SW¼SE¼NE¼, SE¼SE¼NE¼, N½NW¼SE¼, S½SW¼NW¼SE¼, SE¼NW¼SE¼, NE¼SE¼, S½SE¼.

T. 23 S., R. 61 E.

Section 22, E½NE¼NE¼NW¼, E½SE¼NE¼NW¼, S½SW¼NW¼, E½NE¼SE¼NW¼, S½SE¼NW¼.

T. 23 S., R. 61 E.

Section 25, NW¼.

T. 23 S., R. 61 E.

Section 26, N½, N½NE¼SE¼, N½NW¼SE¼, N½NE¼SW¼.

T. 23 S., R. 61 E.

Section 27, NE¼.

Consisting of 81 parcels containing 2,577.60 acres, more or less.

Maps delineating the individual proposed sale parcels and current appraisals for each parcel are available for public review at the BLM LVFO, and online at http://www.propertydisposal.gsa.gov.

In addition to the lands described herein, other parcels that have been previously noticed for sale, but did not sell, may be offered at this sale.

Terms and Conditions of Sale

Minerals for each parcel will be reserved in accordance with BLM's approved Mineral Potential Report dated January 22, 1999. Information pertaining to the reservation of minerals is specific to each parcel. This information is located in the case file and available for public review by visiting the BLM Las Vegas Field Office. For parcels that include only “no known value” mineral interests, an offer to purchase these listed parcels will constitute an application for mineral conveyance. In conjunction with the final payment, an applicant for “no known value” mineral parcels will be required to pay a $50.00 non-refundable filing fee for processing the conveyance of the “no known value” mineral interests which will be sold simultaneously with the surface interests. If the Mineral Potential Report indicates the presence of leaseable or saleable minerals, those mineral interests will be reserved to the United States.

Registration for oral bidding for those who have not pre-registered will begin at 8 a.m., PST, March 7, 2007, and will end at 10 a.m., PST. Other deadline dates for the receipt of payments, and arranging for certain payments to be made by electronic transfer, are specified in the proposed terms and conditions of sale, as stated herein.

The following numbered terms and conditions will appear on the conveyance documents for these parcels, as follows:

1. All parcels described above will have discretionary leaseable and saleable mineral deposits on the lands in Clark County, if any, reserved to the United States, in accordance with BLM's approved Mineral Potential Report, dated January 22, 1999. Permittees, licensees, and lessees of the United States retain the right to prospect for, mine, and remove such leaseable and saleable minerals owned by the United States under applicable law and any regulations that the Secretary of the Interior may prescribe, together with all necessary access and exit rights.

2. A right-of-way is reserved for ditches and canals constructed by authority of the United States under the Act of August 30, 1890 (43 U.S.C. 945).

3. All parcels are subject to valid existing rights.

4. All purchasers/patentees, by accepting a patent, covenant and agree to indemnify, defend, and hold the United States harmless from any costs, damages, claims, causes of action, penalties, fines, liabilities, and judgments of any kind or nature arising from the past, present, and future acts or omissions of the patentees or their employees, agents, contractors, or lessees, or any third-party, arising out of or in connection with the patentees' use, occupancy, or operations on the patented real property. This indemnification and hold harmless agreement includes, but is not limited to, acts and omissions of the patentees and their employees, agents, contractors, or lessees, or any third party, arising out of or in connection with the use and/or occupancy of the patented real property which has already resulted or does hereafter result in: (1) Violations of Federal, state, and local laws and regulations that are now or may in the future become, applicable to the real property; (2) Judgments, claims or demands of any kind assessed against the United States; (3) Costs, expenses, or damages of any kind incurred by the United States; (4) Releases or threatened releases of solid or hazardous waste(s) and/or hazardous substances(s), as defined by Federal or state environmental laws, off, on, into or under land, property and other interests of the United States; (5) Activities by which solid waste or hazardous substances or waste, as defined by Federal and state environmental laws are generated, released, stored, used or otherwise disposed of on the patented real property, and any cleanup response, remedial action or other actions related in any manner to said solid or hazardous substances or wastes; or (6) Natural resource damages as defined by Federal and state law. This covenant shall be construed as running with the parcels of land patented or otherwise conveyed by the United States, and may be enforced by the United States in a court of competent jurisdiction.

5. Pursuant to the requirements established by section 120(h) of the Comprehensive Environmental Response, Compensation and Liability Act, 42 U.S.C. 9620(h) (CERCLA), as amended by the Superfund Amendments and Reauthorization Act of 1988, 100 Stat. 1670, notice is hereby given that the above-described lands have been examined and no evidence was found to indicate that any hazardous substances has been stored for one year or more, nor had any hazardous substances been disposed of or released on the subject property.

Parcels may also be subject to applications received prior to publication of this NORA if processing the application would have no adverse affect on the marketability or the federally approved Fair Market Value (FMV) of a parcel. Encumbrances that may appear on the BLM public files for the parcels proposed for sale are available for review during business hours, 7:30 a.m. PDT to 4:30 p.m. PDT, Monday through Friday, at the BLM LVFO.

All parcels are subject to reservations for roads, public utilities and flood control purposes in accordance with the local governing entities' Transportation Plans.

No warranty of any kind, express or implied, is given by the United States as to title, whether or to what extent the land may be developed, its physical condition, future uses, or any other circumstance or condition. The conveyance of any parcel will not be on a contingency basis. However, to the extent required by law, all parcels are subject to the requirements of section 120(h) of the CERCLA.

Sealed bids under 43 CFR 2711.3-1(c) may be submitted for any parcel. Sealed bids must be received at the BLM LVFO, no later than 4:30 p.m., PST, March 2, 2007. Sealed bid envelopes must be marked on the lower front left corner with the BLM Serial Number for the parcel and the sale date. Bids must be for not less than the federally approved FMV, and a separate bid must be submitted for each parcel.

As required by 43 CFR 2711.3-1(c), each sealed bid shall be accompanied by a certified check, postal money order, bank draft, or cashier's check made payable in U.S. dollars to the order of the Bureau of Land Management, for 20 percent of the amount bid. The highest qualifying sealed bid for each parcel will become the starting bid at the oral auction. If no sealed bids are received, oral bidding will begin at the FMV, as determined by the authorized officer. All sealed bids will be opened and recorded at 2 p.m. PST on March 5, 2007 at the BLM office on 4701 N. Torrey Pines Drive in Las Vegas. The high sealed bid amount will be posted on the auction order list and will be the starting bid amount at the oral auction.

Interested parties who will not be bidding at the public auction are not required to register and may proceed directly to the Cashman Theater. If you are at the auction to conduct business with the high bidders or are there to observe the process, should seating become limited, you may be asked to relocate to the balcony or another area in order to provide seating in the theater for all bidders before the auction begins.

All oral bidders are required to register. Registration for oral bidding will begin at 8 a.m. PST on the day of the sale and will end at 10 a.m. PST. You are encouraged to pre-register by mail or fax by completing the form located in the Sale Packet. The form is also available at the BLM LVFO. You may also pre-register online at http://www.auctionrp.com.

Prior to receiving a bidder number on the day of the sale, all registered bidders must submit a certified check, bank draft, postal money order, or cashier's check in the amount of $10,000. This is a bid guarantee. In addition to the $10,000 bid guarantee, prospective bidders for the parcel designated Serial Number N-81971 must submit a bid guarantee of 20 percent of the federally approved FMV for that parcel in order to be eligible to bid on that parcel. The check must be made payable in U.S. dollars to the order of the Bureau of Land Management. On the day of the sale, pre-registered bidders may go to the Express Registration Desk, present their Photo Identification, the required $10,000 bid guarantee, or the 20 percent FMV bid guarantee for Serial Number N-81971, and receive a bidder number. Bidders that have not pre-registered must go to the standard Registration Line where additional information will be requested along with your Photo Identification and the required $10,000 bid guarantee, or the 20 percent FMV bid guarantee for Serial Number N-81971. Upon completion of registration you will be given a bidder number.

At auction, the highest qualifying bid for any parcel will be declared the apparent high bid. Under 43 CFR 2711.3-1(d), the apparent high bidder must submit a deposit of not less than 20 percent of the successful bid by 3 p.m. PST on the day of the sale either in the form of cash (U.S. dollars), or in the form of a personal check, bank draft, cashiers check, postal money order or any combination thereof, made payable in U.S. dollars to the order of the Bureau of Land Management. The deposit must be delivered no later than 3 p.m. PST the day of the sale to the BLM Collection Officers at the Cashman Theater. Deposits will NOT be accepted at the LVFO.

Following the auction, all monies submitted with sealed bids and bid guarantees will be returned to the unsuccessful bidders upon presentation of their photo identification at the designated area. If the apparent high bidder so chooses, the bid guarantee may be applied to the required deposit. Failure to submit the deposit following the sale under 43 CFR 2711.3-1(d) will result in forfeiture of the bid guarantee. If you offer to purchase more than one parcel and fail to submit the bid deposit following the sale on any single parcel, BLM will retain your bid guarantee, and may cancel the sale of all of the parcels for which you were declared the apparent high bidder.

The remainder of the full bid price for each parcel must be paid within 180 calendar days of the competitive sale date, i.e., September 4, 2007, in the form of a certified check, postal money order, bank draft, or cashier's check made payable in U.S. dollars to the order of the Bureau of Land Management. Personal checks will not be accepted. Arrangements for Electronic Fund Transfer (EFT) to BLM for the balance due on or before September 4, 2007, shall be made a minimum of two weeks prior to the date you wish to make payment. Failure to pay the full price within the 180 days will disqualify the apparent high bidder and cause the entire 20 percent deposit to be forfeited to the BLM. Forfeiture of the 20 percent deposit is by operation of 43 CFR 2711.3-1(d). No exceptions will be made. BLM cannot accept the full price at any time following the 180th day after the sale (September 4, 2007).

Within 30 days of the sale, BLM will either accept or reject all bids received. Under 43 CFR 2711.3-1(f), a bid is the bidder's offer to BLM to purchase the parcel. No contractual or other rights against the United States may accrue until BLM officially accepts your offer to purchase, and you submit the full bid price by the 180th day following the sale (September 4, 2007). See 43 CFR 2711.3-1(d) and (f). BLM will send out “High Bidder Declared” letters within 30 days of the sale informing you whether your offer to purchase has been accepted or rejected by BLM. All name changes and supporting documentation must be received at BLM by 4:30 p.m. PST, April 6, 2007, otherwise, the patent will be issued to the name on the Bidder Statement completed at the sale on March 7, 2007. No name changes will be accepted after 4:30 pm PST, April 6, 2007. To change the name, high bidders must notify the BLM-LVFO in writing and re-submit a new Bidder Statement (available at BLM) completed by the intended patentee.

1031 Exchanges: BLM will not sign any documents related to your 1031 Exchange Transactions. The timing for completion of the exchange is your responsibility in accordance with IRS regulations. BLM is not a party to your 1031 Exchange.

Requests for BLM Escrow Instructions must be received by BLM prior to 30 days before the bidder's scheduled closing date. There are no exceptions.

All sales are made in accordance with and subject to the governing provisions of law and applicable regulations. In general, the BLM may accept or reject any or all offers to purchase, or withdraw any parcel of land or interest therein from sale, if, in the opinion of the BLM authorized officer, consummation of the sale would be inconsistent with any law, or for other reasons. See 43 CFR 2711.3-1(f).

Federal law requires bidders to be U.S. citizens 18 years of age or older; a corporation subject to the laws of any State or of the United States; a State, State instrumentality or political subdivision authorized to hold property or an entity legally capable of conveying lands or interests therein under the laws of the State of Nevada. Certification of qualification, including citizenship or corporation or partnership, must be presented to the BLM Sales staff at 4701 N. Torrey Pines Dr., Las Vegas, NV 89130 and is subject to verification by the BLM prior to consummation of the sale. Registered bidders must provide to BLM, within 30 days from sale, proof of citizenship, or proof of current corporate status in good standing filed within the United States. Citizenship is evidenced by presenting a birth certificate, passport, or Immigration/Naturalization papers. Copies of qualifying documents will be taken. Failure to submit the above requested documents could result in cancellation of the sale.

Additional Information

If not sold, any parcel described above in this NORA may be identified for sale at a later date without further legal notice. Unsold parcels may be offered for sale in a future online Internet auction. Internet auction procedures will be available at http://www.auctionrp.com. If unsold on the Internet, parcels may be put up for sale at future oral and online Internet auctions without additional legal notice.

Upon publication of this NORA and until the completion of the sale, the BLM is no longer accepting land use applications affecting any parcel identified for sale, including parcels that have been published in a previous NORA. However, land use applications may be considered after completion of the sale for parcels that are not sold through oral or online Internet auction procedures provided the authorization will not adversely affect the marketability or value of the parcel.

In order to determine the value, through appraisal, of the parcels of land proposed to be sold, certain extraordinary assumptions may have been made of the attributes and limitations of the lands and potential effects of local regulations and policies on potential future land uses. Through publication of this NORA, the Bureau of Land Management gives notice that these assumptions may not be endorsed or approved by units of local government. It is the buyer's responsibility to be aware of all applicable Federal, state, and local government laws, regulations and policies that may affect the subject lands, including any required dedication of lands for public uses. It is also the buyer's responsibility to be aware of existing or projected use of nearby properties. When conveyed out of Federal ownership, the lands will be subject to any applicable laws, regulations, and policies of the applicable local government for proposed future uses. It will be the responsibility of the purchaser to be aware of those laws, regulations, and policies, and to seek any required local approvals for future uses. Buyers should also make themselves aware of any Federal or state law or regulation that may impact the future use of the property. Any land lacking access from a public road or highway will be conveyed as such, and future access acquisition will be the responsibility of the buyer.

Environmental Assessment. The SNPLMA parcels proposed for sale were analyzed in an Environmental Impact Statement (EIS), entitled “Las Vegas Land Disposal Boundary EIS”, approved December 23, 2004. This EIS is available for public review at the BLM LVFO. An Environmental Assessment (EA) for this sale, which tiers to the EIS, has also been prepared for public review and comment at the BLM LVFO. BLM will be accepting public comment on the EA during the time for comment on the proposed sale up to 45 days after publication in the Federal Register.

Other information concerning the sale, including the appraisals, reservations, sale procedures and conditions, CERCLA and other environmental documents will be available for review at the BLM LVFO, or by calling (702) 515-5000 and asking to speak to a member of the Sales Team. Most of this information will also be available on the Internet at http://propertydisposal.gsa.gov.

Public Comments: The general public and interested parties may submit written comments regarding the proposed sale to the Field Manager, BLM LVFO, up to October 27, 2006. Only written comments submitted by postal service or overnight mail to the Field Manager—BLM LVFO will be considered properly filed. E-mail, facsimile or telephone comments will not be considered as properly filed. Any adverse comments regarding the proposed sale will be reviewed by the Nevada BLM State Director, or other authorized official of the Department of the Interior who may sustain, vacate, or modify this realty action in whole or in part, if applicable. Any comments received during this process, as well as the name and address of the commenter, will be available to the public in the administrative record and/or pursuant to a Freedom of Information Act request. You may indicate for the record that you do not wish to have your name and/or address made available to the public. Any determination by the Bureau of Land Management to release or withhold the names and/or addresses of those who comment will be made on a case-by-case basis. A request from a commenter to have their name and/or address withheld from public release will be honored to the extent permissible by law.

Termination of R&PP Classification—SNPLMA Withdrawal

Recreation and Public Purposes Act, 43 U.S.C. 869 et seq. (R&PP), application number N-79029, which was previously published in Federal Register, Vol. 70, No. 196, page 59367, has been withdrawn. R&PP lease number N-59496 was previously published in Federal Register 60 FR 33843, and has been relinquished by the applicant. This NORA officially terminates the R&PP classification and segregation for those parcels. This NORA hereby provides notice that land previously leased and/or segregated for R&PP purposes is no longer required and is now part of this sale. However, pursuant to Section 4(c) of SNPLMA, as amended, these parcels are withdrawn, subject to valid existing rights, from entry and appropriation under the public land laws, location and entry under the mining laws and from operation under the mineral leasing and geothermal leasing laws, until such time as the Secretary of Interior terminates the withdrawal or the lands are conveyed by the Federal Government.

(Authority: 43 CFR 2711.1-2(a) and (c))

Dated: July 20, 2006.
Sharon DiPinto,
Acting Field Manager.

[FR Doc. E6-15019 Filed 9-11-06; 8:45 am]

BILLING CODE 4310-HC-P